DEPARTMENT OF STATE

[Public Notice 8131]

U.S. Department of State Advisory Committee on Private International Law (ACPIL): Public Meeting of the Study Group on Family Law

The Office of the Assistant Legal Adviser for Private International Law, Department of State, hereby gives notice of a public meeting of the Study Group on Family Law to discuss the recognition and enforcement of foreign civil protection orders. Pursuant to a decision of the General Affairs and Policy Council of the Hague Conference on Private International Law, the Conference's Permanent Bureau has published a Questionnaire for Member States on the Recognition and Enforcement of Foreign Civil Protection Orders, which is available at http://www.hcch.net/upload/wop/gap2013pd04a_en.doc. The purpose of the public meeting is to obtain comments on Part VI of that questionnaire, which seeks views on a potential international instrument in the area of civil protection orders. This is not a meeting of the full Advisory Committee.

Time and Place: The meeting will take place on Monday, January 14, 2013, at 1:00 p.m. EST and is tentatively scheduled to last until 4:00 p.m. EST. The meeting will be held in Room 240, South Building, State Department Annex 4. Participants should plan to arrive at the Navy Hill gate at the corner of 23rd Street NW., and D Street NW., by 12:30 p.m. for visitor screening. If you are unable to attend the public meeting and would like to participate from a remote location, teleconferencing will be available.

Public Participation: This meeting is open to the public, subject to the capacity of the meeting room. Access to the building is strictly controlled. For pre-clearance purposes, those planning to attend should phone Tricia Smeltzer (202-776-8423) or Niesha Toms (202-776-8420) and provide your full name, affiliation, address, and email address. This will greatly facilitate entry into the building. A member of the public needing reasonable accommodation should advise Ms. Smeltzer or Ms. Toms not later than January 7, 2013. Requests made after that date will be considered, but might not be able to be fulfilled. If you would like to participate by telephone, please contact Ms. Smeltzer or Ms. Toms to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: December 12, 2012.
Michael S. Coffee,
Attorney-Adviser, Office of Private International Law, Office of Legal Adviser, Department of State.

[FR Doc. 2012-30862 Filed 12-20-12; 8:45 am]

BILLING CODE 4710-08-P